DEPARTMENT OF VETERANS AFFAIRS

Special Medical Advisory Group; Notice of Meeting

The Department of Veterans Affairs (VA) gives notice under Public Law 92-463 (Federal Advisory Committee Act) that the Special Medical Advisory Group will meet on May 14, 2010, in Room 830 at VA Central Office, 810 Vermont Avenue, NW., Washington, DC, from 8:30 a.m. to 3 p.m. The meeting is open to the public.

The purpose of the Group is to advise the Secretary of Veterans Affairs and the Under Secretary for Health on the care and treatment of disabled Veterans, and other matters pertinent to the Department's Veterans Health Administration (VHA).

The agenda for the meeting will include discussions of the Vision for VHA, the Group's charter, update on Blue Ribbon Panel on VA-Medical School Affiliations Report Implementation, update on Transformational Initiatives, and VA/DoD Interoperability.

Any member of the public wishing to attend should contact Juanita Leslie, Office of Administrative Operations (10B2), at (202) 461-7019 or j.t.leslie@va.gov. No time will be set aside at this meeting for receiving oral presentations from the public. Statements, in written form, may be submitted to Ms. Leslie before the meeting or within 10 days after the meeting.

Dated: April 29, 2010.
By Direction of the Secretary.
Vivian Drake,
Committee Management Officer.

[FR Doc. 2010-10411 Filed 5-3-10; 8:45 am]

BILLING CODE P